DEPARTMENT OF ENERGY

Federal Energy Regulatory Commission

Combined Notice of Filings

Take notice that the Commission has received the following Natural Gas Pipeline Rate and Refund Report filings:

Docket Numbers: CP17-458-005.

Applicants: Midship Pipeline Company.

Description: Abbreviated Application for Certificate Authority of Midship Pipeline Company, LLC.

Filed Date: 12/20/19.

Accession Number: 20191220-5356.

Comments Due: 5 p.m. ET 1/10/20.

Docket Numbers: RP19-1618-001.

Applicants: Cadeville Gas Storage LLC.

Description: Compliance filing CGS—NAESB STANDARDS to be effective 8/1/2019.

Filed Date: 12/26/19.

Accession Number: 20191226-5101.

Comments Due: 5 p.m. ET 1/7/20.

Docket Numbers: RP19-1619-001.

Applicants: Monroe Gas Storage Company, LLC.

Description: Compliance filing MGS—NAESB STANDARDS to be effective 8/1/2019.

Filed Date: 12/26/19.

Accession Number: 20191226-5108.

Comments Due: 5 p.m. ET 1/7/20.

Docket Numbers: RP19-1620-001.

Applicants: Perryville Gas Storage LLC.

Description: Compliance filing PGS—NAESB STANDARDS to be effective 8/1/2019.

Filed Date: 12/26/19.

Accession Number: 20191226-5158.

Comments Due: 5 p.m. ET 1/7/20.

Docket Numbers: RP20-364-000.

Applicants: Texas Eastern Transmission, LP.

Description: § 4(d) Rate Filing: TETLP EPC FEB 2020 FILING to be effective 2/1/2020.

Filed Date: 12/26/19.

Accession Number: 20191226-5055.

Comments Due: 5 p.m. ET 1/7/20.

Docket Numbers: RP20-365-000.

Applicants: Transcontinental Gas Pipe Line Company, LLC.

Description: § 4(d) Rate Filing: List of Non-Conforming Service Agreements (LSE, NESL) to be effective 1/26/2020.

Filed Date: 12/26/19.

Accession Number: 20191226-5069.

Comments Due: 5 p.m. ET 1/7/20.

Docket Numbers: RP20-366-000.

Applicants: Columbia Gulf Transmission, LLC.

Description: Penalty Revenue Crediting Report of Columbia Gulf Transmission, LLC under RP20-366.

Filed Date: 12/26/19.

Accession Number: 20191226-5076.

Comments Due: 5 p.m. ET 1/7/20.

Docket Numbers: RP20-367-000.

Applicants: Crossroads Pipeline Company.

Description: Penalty Revenue Crediting Report of Columbia Gulf Transmission, LLC under RP20-367.

Filed Date: 12/26/19.

Accession Number: 20191226-5081.

Comments Due: 5 p.m. ET 1/7/20.

Docket Numbers: RP20-368-000.

Applicants: El Paso Natural Gas Company, L.L.C.

Description: § 4(d) Rate Filing: Negotiated Rate Agreement Update (Conoco Jan 20) to be effective 1/1/2020.

Filed Date: 12/26/19.

Accession Number: 20191226-5151.

Comments Due: 5 p.m. ET 1/7/20.

Docket Numbers: RP20-369-000.

Applicants: Central Kentucky Transmission Company.

Description: Penalty Revenue Crediting Report of Central Kentucky Transmission Company under RP20-369.

Filed Date: 12/26/19.

Accession Number: 20191226-5181.

Comments Due: 5 p.m. ET 1/7/20.

Docket Numbers: RP20-370-000.

Applicants: Columbia Gas Transmission, LLC.

Description: Penalty Revenue Crediting Report of Columbia Gas Transmission, LLC under RP20-370.

Filed Date: 12/27/19.

Accession Number: 20191227-5007.

Comments Due: 5 p.m. ET 1/8/20.

Docket Numbers: RP20-371-000.

Applicants: Trailblazer Pipeline Company LLC.

Description: § 4(d) Rate Filing: 2019-12-27 Neg Rate Ks RP18-922 Settlement to be effective 10/1/2019.

Filed Date: 12/27/19.

Accession Number: 20191227-5067.

Comments Due: 5 p.m. ET 1/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2019.
Nathaniel J. Davis, Sr.,
Deputy Secretary.

[FR Doc. 2019-28496 Filed 1-3-20; 8:45 am]

BILLING CODE 6717-01-P